NUCLEAR REGULATORY COMMISSION

[Docket No. 50-22]

CBS Corporation, Test Reactor at Waltz Mill, PA; Notice of Consideration of Approval of Transfer of Facility License and Conforming Amendment and Opportunity for a Hearing; Correction

AGENCY: Nuclear Regulatory Commission.

ACTION: Correction.

SUMMARY: This document corrects a notice appearing in the Federal Register on February 29, 2000 (65 FR 10841), in which the Commission is considering the issuance of an order under 10 CFR 50.80 approving the transfer of Facility License No. TR-2 currently held by CBS Corporation as the owner and responsible licensee. This action is necessary to correct two erroneous dates.

FOR FURTHER INFORMATION CONTACT: Theodore S. Michaels, Office of Nuclear Reactor Regulation, Nuclear Regulatory Commission, telephone 301-415-1102, e-mail: tsm1@nrc.gov.

SUPPLEMENTARY INFORMATION: 1. On page 10841, in the second column, in the third complete paragraph, “March 30, 2000,” is corrected to read “March 20, 2000.”

2. On page 10841 in the third column, in the second complete paragraph, line three, “April 10, 2000,” is corrected to read “March 30, 2000.”

Dated at Rockville, Maryland, this 2nd day of March 2000.
For the Nuclear Regulatory Commission.
David L. Meyer,
Chief, Rules and Directives Branch, Division of Administrative Services, Office of Administration.

[FR Doc. 00-5474 Filed 3-6-00; 8:45 am]

BILLING CODE 7590-01-P